DEPARTMENT OF LABOR

Office of the Secretary

[Secretary's Order 01-2006]

Establishment of the Emergency Management Center (EMC) and the Comprehensive Emergency Management Program (CEMP)

1. Purpose. The Department of Labor (DOL), through this Order, addresses the continuity of Departmental missions under all operating conditions and DOL's roles and responsibilities in the National, homeland, and economic security arenas. DOL will formulate plans and establish preparedness programs to assure its capability to carry out its assigned functions during a period of national emergency and to maintain Continuity of Operations (COOP) and Continuity of Government (COG). In addition, this Order formally establishes, within the Office of the Assistant Secretary for Administration and Management (OASAM), the Emergency Management Center, which oversees DOL's Comprehensive Emergency Management Program (CEMP). The CEMP shall consist of the following programs and structures to coordinate DOL capabilities, and ensure DOL's ability to carry out its missions under any and all circumstances:

• Continuity of Government.

• Continuity of Operations.

• Communications Security.

• Operations Security.

The CEMP provides the framework for coordination, planning, governance and resource allocation thus enabling DOL to fulfill its roles under all relevant Federal authorities.

2. Authorities and Directives Affected. A. Authorities. This Order is issued pursuant to the authorities listed in Appendix A.

B. Directives Affected. This Order supersedes and cancels Secretary's Order 14-76, “Alerting System for National Emergency” (June 1, 1976), and Secretary's Order 23-76, “Emergency Preparedness and Disaster Relief Functions” (November 18, 1976).

3. Scope. This Order applies to all Department personnel, organizational components and activities.

4. Establishment of the Emergency Management Center. The Emergency Management Center (EMC) is established within OASAM. The Emergency Operations Center and all emergency management programs will be directed from the EMC. EMC oversees the CEMP and coordinates Departmental roles and responsibilities to adequately prepare for and respond to a full spectrum of potential natural or man-made disasters, as well as supporting lead Federal agencies in assisting state and local governments, to include international requests for U.S. assistance, to the extent permitted by law, in the event of such disasters.

5. Delegation of Authority and Assignment of Responsibilities. A. The Deputy Secretary of Labor is delegated authority and assigned responsibility for:

(1) Assuring Departmental support to broader Federal government planning, preparedness, mitigation, response, and recovery efforts under the National Response Plan;

(2) Establishing DOL-wide procedures and permanent or ad hoc workgroups, as appropriate, to study and/or implement activities and projects to address needs determined through Departmental communication and coordination with other Federal agencies, private sector entities, state, local and tribal authorities, and the public, or that develop through incidents of national significance; and

(3) Performing, or delegating as appropriate, any additional or similar duties that may be assigned by the Secretary.

B. The Assistant Secretary for Administration and Management (ASAM) is delegated authority and assigned responsibility for:

(1) Developing, establishing and directing the dissemination of standards, procedures, and instructions relating to CEMP, and regularly evaluating Departmental performance measures to assess the readiness of emergency management-related programs;

(2) Directing the design of a management information system that collects and processes all information needs to fully effectuate CEMP, and the maintenance of redundant telecommunications and network infrastructure as necessary for coordination of emergency management operations;

(3) Coordinating all disaster and emergency management investments, including incident management or emergency management systems through e-Gov initiatives, so that they comply with the applicable federal interoperability standards;

(4) Establishing a process within DOL to ensure that acquisitions and activities related to incident/emergency management are coordinated with the ASAM or his designee;

(5) Through the EMC, ensuring (A) the integration and coordination of emergency management-related functions and personnel, including directing the management of security and emergency management programs before, during, and following emergencies; (B) program continuity and guidance on emergency preparedness; (C) development and maintenance of an alerting system and an overall regional emergency plan; (D) conduct of liaison activities with Federal agencies involved in preparedness planning; and (E) provision of regular information regarding all such activities to the ASAM or his designee; and

(6) Performing, or delegating as appropriate, any additional or similar duties that may be assigned by the Secretary.

C. The Assistant Secretary for Public Affairs is delegated authority and assigned responsibility for developing, coordinating, and disseminating all DOL public information during emergency activities and developing and maintaining the Departmental Crisis Communications Plan, consistent with other delegations.

D. The Assistant Secretary for Congressional and Intergovernmental Affairs is delegated authority and assigned responsibility, consistent with other delegations, to receive requests and inquiries from congressional, state and local agencies relating to emergency management related matters, to communicate all such requests and inquiries to the EMC and such DOL officials as may be appropriate, and to coordinate responses back to all such congressional, state and local agencies. The Assistant Secretary for Congressional and Intergovernmental Affairs shall designate a liaison to the EMC.

E. The Assistant Secretary for Occupational Safety and Health is delegated authority and assigned responsibility to ensure the Occupational Safety and Health-specific CEMP and National Response Plan activities are carried out by providing safety and health advice, technical assistance, and follow-on enforcement as appropriate in emergencies; and supporting Federal, state, and/or local authorities' efforts when determining if conditions are safe and healthy for human entry or occupation, consistent with other delegations.

F. The Assistant Secretary for Employment and Training is delegated authority and assigned responsibility, consistent with other delegations, for:

(1) Ensuring that the Employment and Training Administration-specific CEMP activities are carried out by assisting in achieving maximum emergency utilization of the civilian workforce, such as the Job Corps, and unemployment assistance programs and through job training and recruiting activities; and

(2) Providing overall supervision and guidance in the development and coordination of programs and plans for achieving maximum utilization of civilian manpower resources.

G. The Assistant Secretary for Employment Standards is delegated authority and assigned responsibility, consistent with other delegations, for:

(1) Ensuring that the Employment Standards Administration-specific CEMP activities are carried out;

(2) Providing overall supervision and guidance in the development and coordination of programs and plans for administering the wage and salary stabilization and labor disputes program.

H. The Assistant Secretary for Mine Safety and Health is delegated authority and assigned responsibility, consistent with other delegations, for ensuring the Mine Safety and Health Administration-specific CEMP activities are carried out by advising and assisting in unique emergency situations that require locating and rescuing individuals trapped underground or in a mass of debris, to include developing and maintaining plans and facility readiness for the use of the National Mine Health and Safety Academy as part of Departmental COOP.

I. The Assistant Secretary for Disability Employment Policy is delegated authority and assigned responsibility, consistent with other delegations, for ensuring that the Office of Disability Employment Policy-specific CEMP activities are carried out by ensuring that emergency preparedness plans adequately address people with disabilities in the workforce.

J. The Assistant Secretary for Veterans Employment and Training is delegated authority and assigned responsibility to assure veterans' employment and training service-specific CEMP activities are carried out by ensuring that emergency preparedness plans address the requirements and needs of veterans and disabled veterans in the workforce.

K. The Commissioner for Labor Statistics is delegated authority and assigned responsibility, consistent with other delegations, for providing overall supervision and guidance in the development and coordination of programs and plans for gathering economic data (e.g., employment, unemployment, prices, productivity, wages, and earnings) as are necessary for the administration of economic stabilization measures during an emergency and for the appraisal of the impact of proposed economic stabilization measures and develops plans and programs to carry out damage assessments and data system programs.

L. The Solicitor of Labor is delegated authority and assigned responsibility for providing legal advice and counsel to the DOL agencies and offices on all matters arising in the administration of this Order.

M. All Agency Heads are delegated the authority and assigned responsibility for:

(1) Developing and maintaining emergency plans necessary to carry out the essential functions of their agency in the National Office and the Field, consistent with the requirements of critical infrastructure protection (CIP), COOP, and COG, and coordinating such plans with the EMC and other departments and agencies, as appropriate;

(2) Providing the necessary funds and staff support to carry out the program responsibilities assigned herein;

(3) Coordinating all disaster and emergency management investments, including incident management or emergency management systems through e-Gov initiatives, with OASAM through the EMC to ensure compliance with the applicable federal interoperability standards; and

(4) Coordinating communications relating to emergency management with congressional, state and local agencies through the Office of Congressional and Intergovernmental Affairs, in coordination with the EMC.

6. Reservations of Authority and Responsibility. A. The submission of reports and recommendations to the President and Congress is reserved to the Secretary.

B. This Secretary's Order does not affect the authorities and responsibilities of the Office of Inspector General under the Inspector General Act of 1978, as amended, or under Secretary's Order 2-90 (January 31, 1990).

C. This Secretary's Order does not affect the Order of Succession for Executive Continuity as provided by Secretary's Order 4-2003 (October 14, 2004).

D. Heads of DOL Agencies charged with direct responsibility for program operations exercise the same authority for these programs during emergencies as currently delegated during normal operations.

7. Re-delegation of Authority. Unless identified as non-delegable under this Order, authorities delegated within this Order may be re-delegated, provided, however, that re-delegation shall in no way diminish the delegating official's responsibility.

8. Effective Date. This Order is effective immediately.

Dated: January 17, 2006.
Elaine L. Chao,
Secretary of Labor.

Appendix A: Authorities

This Order is issued pursuant to:

• 5 U.S.C. 301.

• 6 U.S.C. 101.

• 42 U.S.C. 5195.

• 36 CFR 1236, “Management of Vital Records” (July 1, 1998).

• 41 CFR 101-2, “Occupant Emergency Program” (July 1, 1998).

• The Robert T. Stafford Disaster Relief and Emergency Assistance Act, as amended by Public Law 106-390 (October 30, 2000).

• Homeland Security Presidential Directive 8, “National Preparedness” (December 17, 2003).

• Homeland Security Presidential Directive 7, “Critical Infrastructure Identification, Prioritization, and Protection” (December 17, 2003).

• Homeland Security Presidential Directive 5, “Management of Domestic Incidents” (February 23, 2003).

• Homeland Security Presidential Directive 3, “Homeland Security Advisory System” (March 11, 2002).

• Executive Order 12345, “Providing an Order of Succession within the Department of Labor” (December 18, 2001).

• Executive Order 13231, “Critical Infrastructure Protection in the Information Age” (October 16, 2001).

• Executive Order 13228, “Establishing the Office of Homeland Security and the Homeland Security Council” (October 12, 2001).

• Executive Order 12958 as amended, “Classified National Security Information” (March 25, 2003).

• Executive Order 12919, “National Defense Industrial Resources Preparedness” (June 3, 1994).

• Executive Order 12656, “Assignment of Emergency Preparedness Responsibilities” (November 18, 1988).

• Executive Order 12472, “Assignment of National Security and Emergency Preparedness Telecommunications Functions” (April 3, 1984).

• Executive Order 12148, “Federal Emergency Management” (July 20, 1979).

• National Security Presidential Directive 1, “Organization of the National Security Council System” (February 13, 2001).

• Federal Preparedness Circular 65, “Federal Executive Branch Continuity of Operations” (June 15, 2004).

• Presidential Decision Directive 67, “Enduring Constitutional Government and Continuity of Government Operations” (October 21, 1998).

• Presidential Decision Directive 62, “Combating Terrorism” (May 22, 1998).

• The Initial National Response Plan (October 10, 2003).

• The National Incident Management System (March 1, 2004).

• Deputy Secretary of Labor Memorandum, “Department of Labor, Homeland Security Advisory System/Protective Measures” (September 18, 2002).

[FR Doc. 06-619 Filed 1-23-06; 8:45 am]

BILLING CODE 4510-23-U